DEPARTMENT OF AGRICULTURE

Animal and Plant Health Inspection Service

[Docket No. APHIS-2014-0100]

Notice of Determination; Changes to the National Poultry Improvement Plan Program Standards

AGENCY: Animal and Plant Health Inspection Service, USDA.

ACTION: Notice.

SUMMARY: We are updating the National Poultry Improvement Plan (NPIP) Program Standards document. In a previous notice, we made available to the public for review and comment revisions to the NPIP Program Standards document describing changes to blood testing procedures for mycoplasma, bacteriological examination procedure changes for Salmonella, and the addition of new approved diagnostic test kits.

DATES: Effective January 4, 2016.

FOR FURTHER INFORMATION CONTACT: Dr. Denise Brinson, DVM, Director, National Poultry Improvement Plan, VS, APHIS, USDA, 1506 Klondike Road, Suite 101, Conyers, GA 30094-5104; (770) 922-3496.

SUPPLEMENTARY INFORMATION: The regulations in 9 CFR parts 145, 146, and 147 (referred to below as the regulations) contain the provisions of the National Poultry Improvement Plan (NPIP, also referred to below as “the Plan”), a cooperative Federal-State-Industry mechanism for controlling certain poultry diseases. The Animal and Plant Health Inspection Service (APHIS, also referred to as “the Service”) of the U.S. Department of Agriculture (USDA, also referred to as “the Department”) amends these provisions from time to time to incorporate new scientific information and technologies within the Plan.

In § 147.53, paragraph (b) states that approved tests and sanitation procedures used to qualify flocks for NPIP classifications are set out in the NPIP Program Standards.¹ In that section, paragraphs (d) and (e) set out the process for adding or revising tests or sanitation procedures. Paragraph (e)(1) states that APHIS will publish a notice in the Federal Register making the test or sanitation procedure available for public comment. Paragraph (e)(2)(i) states that, at the end of the comment period, the test or sanitation procedure will be added to the NPIP Program Standards, or the NPIP Program Standards will be updated to reflect changes to an existing test or sanitation procedure, if:

¹ The Program Standards may be viewed on the NPIP Web site at http://www.poultryimprovement.org/documents/ProgramStandardsAugust2014.pdf, or by writing to the Service at National Poultry Improvement Plan, APHIS, USDA, 1506 Klondike Road, Suite 101, Conyers, GA 30094.

(a) No comments were received on the notice;

(b) The comments on the notice supported the action described in the notice; or

(c) The comments on the notice were evaluated but did not change the Administrator's determination that approval of the test or sanitation procedure is appropriate based on the standards in paragraph (a) of § 147.53.

On February 6, 2015, we published a notice ² in the Federal Register (80 FR 6681, Docket No. APHIS-2014-0100) advising the public that we had prepared updates to the NPIP Program Standards document. The proposed updates included changes to blood testing procedures for mycoplasma, bacteriological examination procedure changes for Salmonella, and the addition of new approved diagnostic test kits.

² To view the notice and comment we received, go to http://www.regulations.gov/#!docketDetail;D=APHIS-2014-0100.

We solicited comments on the notice for 30 days ending on March 9, 2015. We received one comment by that date, from a private citizen. However, the commenter did not address the changes mentioned in the notice.

Therefore, in accordance with our regulations in § 147.53(e)(2)(i)(C), we are revising the NPIP Program Standards as described in our previous notice.

Authority: 7 U.S.C. 8301-8317; 7 CFR 2.22, 2.80, and 371.4.

Done in Washington, DC, this 28th day of October 2015.
Kevin Shea,
Administrator, Animal and Plant Health Inspection Service.

[FR Doc. 2015-27959 Filed 11-2-15; 8:45 am]

BILLING CODE 3410-34-P